SECURITIES AND EXCHANGE COMMISSION

[Release No. 34-59908; File No. SR-BX-2009-021]

Self-Regulatory Organizations; NASDAQ OMX BX, Inc.; Notice of Filing of Proposed Rule Change to Amend the Restated Certificate of Incorporation and By-Laws of NASDAQ OMX BX, Inc.

Correction

In notice document E9-11609, beginning on page 23459 in the issue of Tuesday, May 19, 2009, make the following correction:

On page 23462, in the second column, in the second line, “June 8, 2009” should read “June 9, 2009”.

[FR Doc. Z9-11609 Filed 5-28-09; 8:45 am]

BILLING CODE 1505-01-D